DEPARTMENT OF COMMERCE

Foreign-Trade Zones Board

[Docket T-3-2012]

Foreign-Trade Zone 126, Temporary/Interim Manufacturing Authority, Brightpoint North America L.P. (Cell Phone Kitting and Distribution); Notice of Approval

On March 2, 2012, the Executive Secretary of the Foreign-Trade Zones (FTZ) Board filed an application submitted by the Economic Development Authority of Western Nevada, grantee of FTZ 126, requesting temporary/interim manufacturing (T/IM) authority, on behalf of Brightpoint North America L.P., to produce cell phone kits under FTZ procedures within FTZ 126—Site 23, in Reno, Nevada.

The application was processed in accordance with T/IM procedures, as authorized by FTZ Board Orders 1347 (69 FR 52857, 8/30/2004) and 1480 (71 FR 55422, 9/22/2006), including notice in the Federal Register inviting public comment (77 FR 14000-14001, 03/08/2012). The FTZ staff examiner reviewed the application and determined that it meets the criteria for approval under T/IM procedures. Pursuant to the authority delegated to the FTZ Board Executive Secretary in the above-referenced Board Orders, the application is approved, effective this date, until April 23, 2014, subject to the FTZ Act and the Board's regulations, including Section 400.28.

Dated: April 23, 2012.
Andrew McGilvray,
Executive Secretary.

[FR Doc. 2012-10244 Filed 4-26-12; 8:45 am]

BILLING CODE P